FEDERAL COMMUNICATIONS COMMISSION

47 CFR Part 73

[DA 06-10, MB Docket No. 03-149; RM-10725]

Radio Broadcasting Services; Burnet, Calvert, Cameron, Elgin, Grapeland, Junction, and Mason, TX

AGENCY: Federal Communications Commission.

ACTION: Final rule.

SUMMARY: This document dismisses the underlying proposal filed by Robert Fabian for a Channel 280A allotment at Grapeland, Texas, and denies a Counterproposal filed by Elgin FM Limited Partnership in response to the Notice of Proposed Rule Making in this proceeding. See 68 FR 42664, July 18, 2003. With this action, the proceeding is terminated.

FOR FURTHER INFORMATION CONTACT: Robert Hayne, Media Bureau, (202) 418-2177.

SUPPLEMENTARY INFORMATION: This is a synopsis of the Report and Order in MB Docket No. 03-149 adopted January 4, 2006, and released January 6, 2006. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio Broadcasting.

Federal Communications Commission.
John A. Karousos,
Assistant Chief, Audio Division, Media Bureau.

[FR Doc. 06-576 Filed 1-24-06; 8:45 am]

BILLING CODE 6712-01-P